FEDERAL MARITIME COMMISSION

[Docket No. 14-14]

Mark Barr v. Ocean Trade Lines, Inc.; Notice of Filing of Complaint and Assignment

Notice is given that a complaint has been filed with the Federal Maritime Commission (Commission) by Mark Barr, hereinafter “Complainant,” against Ocean Trade Lines, Inc., hereinafter “Respondent.” Complainant states that he is a resident of the United Kingdom. Complainant alleges that Respondent is a non-vessel-operating common carrier (NVOCC) licensed by the Commission with its primary place of business in Florida.

Complainant alleges that Respondent has violated the Shipping Act, 46 U.S.C. 41102(c), 41104(2), 41104(3), 41104(4), in connection with a contract for shipment of a sailboat from Port Everglades, FL to Southampton UK. Complainant alleges that the sailboat was not transported by Respondent and Respondent did not refund the freight charges to Complainant.

Complainants seeks reparations in the amount of $16,239, plus interest and reasonable attorneys fees; payment of additional amounts if violations of 46 U.S.C. 41104(3) are found; “a determination whether Ocean Trade Lines should be ordered to cease and desist from all such practices; . . . a determination whether the OTI license of Ocean Trade Lines should be suspended or revoked, as provided in 46 U.S.C. 40903(A); and . . . such other relief or orders as the Commission may determine.”

The full text of the complaint can be found in the Commission's Electronic Reading Room at www.fmc.gov/14-14.

This proceeding has been assigned to the Office of Administrative Law Judges. The initial decision of the presiding officer in this proceeding shall be issued by November 18, 2015 and the final decision of the Commission shall be issued by May 19, 2016.

Rachel E. Dickon,
Assistant Secretary.

[FR Doc. 2014-27690 Filed 11-21-14; 8:45 am]

BILLING CODE 6730-01-P